DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. 92-463, 86 Stat. 770) requires that public notice of these meeting be announced in the Federal Register.

DATES: Thursday, September 5, 2002, 9 a.m.-5 p.m. Friday, September 6, 2002, 8:30 a.m.-4 p.m.

ADDRESSES: Radisson Hotel Seattle Airport, 17001 Pacific Highway South, Seattle, WA (206) 244-6600.

FOR FURTHER INFORMATION CONTACT: Gail McClure, Public Involvement Program Manager, Department of Energy Richland Operations Office, PO Box 550 (A7-75), Richland, WA, 99352; Phone: (509) 373-5647; Fax: (509) 376-1563.

SUPPLEMENTARY INFORMATION: Purpose of the Board: The purpose of the Board is to make recommendations to DOE and its regulators in the areas of environmental restoration, waste management, and related activities.

Tentative Agenda: Thursday, September 5, 2002.

• Perspectives from Tri-Party Agreement (TPA) Senior Managers

• Performance Management Plan for the Accelerated Cleanup of the Hanford Site

• Hanford Advisory Board Work Plan Priorities for FY 2003

• Hanford Exposure Scenarios Task Force Workshop Draft Advice on the 100 and 300 areas

• Potential Draft Advice on FY 03 and FY 04 Budget

• Potential Draft Advice on Tank Waste Project

Friday, September 6, 2002

• Update on the Draft Hanford Solid (Radioactive and Hazardous) Waste Environmental Impact Statement (EIS) Public Meetings

• Agency Response to Hanford Advisory Board Advice

• Fast Flux Test Facility (FFTF) Tri-Party Agreement (TPA) Draft Change Package

• Lesson Learned from the Committee of the Whole and Task Force Meetings

• Committee Updates

Public Participation: The meeting is open to the public. Written statements may be filed with the Board either before or after the meeting. Individuals who wish to make oral statements pertaining to agenda items should contact Gail McClure's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC 20585 between 9 a.m. and 4 p.m., Monday-Friday, except Federal holidays. Minutes will also be available by writing to Gail McClure, Department of Energy Richland Operation Office, PO Box 550, Richland, WA 99352, or by calling her at (509) 373-5647.

Issued at Washington, DC, on August 2, 2002.
Rachel M. Samuel,
Deputy Advisory Committee Management Officer.

[FR Doc. 02-19912 Filed 8-6-02; 8:45 am]

BILLING CODE 6450-01-P